DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Bernd Hoffmann, Ph.D., University of Medicine and Dentistry of New Jersey: Based on two inquiry/investigation reports from the University of Medicine and Dentistry of New Jersey (UMDNJ) and additional analysis conducted by ORI in its oversight review, the U.S. Public Health Service (PHS) found that Bernd Hoffmann, Ph.D., former Postdoctoral Fellow and Adjunct Assistant Professor, Department of Pharmacology at UMDNJ, engaged in scientific misconduct in research supported by National Institutes of Health (NIH) grant 2 R01 GM052309-05.

PHS found that Dr. Hoffmann engaged in scientific misconduct by falsifying and fabricating research data in a manuscript entitled “LIS1/NUDF and CLIP-170 are required for dynein-mediated vesicle transport on microtubules” that had been submitted to the Journal of Cell Biology (JCB), but was withdrawn before publication. Specifically, Respondent:

• Falsified data values on the second line from the bottom of Table IV; for example, the correct number under “Bound” in the first column was only one-third of that shown (325) in the manuscript;

• falsified data by erasing a band of approximate molecular weight 15KD from Figure 5A in the manuscript; and

• falsified a related movie film available on the Internet by altering the movement of the vesicles.

PHS also found that Dr. Hoffmann engaged in scientific misconduct by falsifying and fabricating research data in a published paper entitled “The LIS1-related Protein NUDF of Aspergillus nidulans and its Interaction Partner NUDE Bind Directly to Specific Subunits of Dynein and Dynactin and to Alpha- and Gamma-Tubulin” that had been published in the Journal of Biological Chemistry (JBC) at 276:38877-38884, 2001. Specifically, Respondent:

• Falsified Figure 5A left, Western blot with the alpha tubulin antibody for incubated proteins (+E+gamma+alpha); the lower right band was reused twice in Figure 2A. In Figure 5A, it was used as gamma tubulin band for the coprecipitation experiment with NUDF-Prot.S and as NUDE for the coprecipitation experiments with NUDG (CDLC)-Flag;

• falsified Figure 5A left, NUDF Western blot with the alpha tubulin antibody for incubated proteins (+E+gamma+alpha); the lower left band was reused in Figure 2A as alpha tubulin in the coprecipitation experiment with NUDF-Prot.S; and

• falsified Figure 4A left, NUDF and for the interaction between the two proteins NUDA and NUDF, pulled out with NUDA-FLAG-agarose, had been used at several other places such as Figure 5A left, left gamma tubulin band, Figure 5B left, NUDE band for the interaction E + alpha, and Figure 5B right, NUDE band for the interaction E + K (ARP1).

Dr. Hoffmann has entered into a Voluntary Exclusion Agreement (Agreement ) in which he has voluntarily agreed for a period of three (3) years, beginning on January 30, 2004:

(1) To exclude himself from any contracting or subcontracting with any agency of the United States Government and from eligibility or involvement in nonprocurement programs of the United States Government referred to as “covered transactions” as defined in the debarment regulations at 45 CFR part 76;

(2) to exclude himself from serving in any advisory capacity to PHS including but not limited to service on any PHS advisory committee, board, and/or peer review committee, or as a consultant; and

(3) to draft a letter of retraction and send it to ORI along with the signed Agreement. The draft letter requested the retraction of the JBC paper published at 276:38877-38884, 2001 and stated that he falsified and fabricated data in Figures 2A, 4A, 5A, and 5B. Upon ORI approval of the draft letter, Respondent agreed to send the final retraction letter to the Editor of JBC.

FOR FURTHER INFORMATION CONTACT: Director, Division of Investigative Oversight, Office of Research Integrity, 1101 Wootton Parkway, Suite 750, Rockville, MD 20852, (301) 443-5330.

Chris B. Pascal,
Director, Office of Research Integrity.

[FR Doc. 04-3865 Filed 2-23-04; 8:45 am]

BILLING CODE 4150-31-P